DEPARTMENT OF ENERGY

Federal Energy Regulatory Commission

[Docket No. RP00-504-000]

Union Gas Limited; Notice of Request for Limited Waiver

August 30, 2000.

Take notice that on August 23, 2000, Union Gas Limited (Union Gas), tendered for filing pursuant to Rule 207(a)(5) of the Commission's Rules of Practice and Procedure, a Request for Limited Waiver of certain Commission regulations, policies, and pipeline tariff provisions related to transportation services provided to Union Gas by interstate pipelines. Union Gas requests that the Commission act on the Request no later than October 25, 2000, in order to promote the orderly implementation of unbundled retail natural gas services on Union Gas' system in Ontario, Canada.

Union Gas requests that the Commission approve this Request expeditiously, thus enabling Union Gas to unbundle its rates and services in the manner and timeframe contemplated by the OEB. An OEB decision on Union Gas' unbundling application is expected by the end of October, with the new rates and services to be effective immediately thereafter.

Any person desiring to be heard or to protest said filing should file a motion to intervene or a protest with the Federal Energy Regulatory Commission, 888 First Street, N.E., Washington, DC 20426, in accordance with Sections 385.214 or 385.211 of the Commission's Rules and Regulations. All such motions or protests must be filed on or before September 6, 2000. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-22708 Filed 9-5-00; 8:45 am]

BILLING CODE 6717-01-M